DEPARTMENT OF ENERGY

Fusion Energy Sciences Advisory Committee

AGENCY: Office of Science, Department of Energy.

ACTION: Notice of open meeting.

SUMMARY: This notice announces a meeting of the Fusion Energy Sciences Advisory Committee. The Federal Advisory Committee Act (Pub. L. 92-463, 86 Stat. 770) requires that public notice of these meetings be announced in the Federal Register.

DATES: April 9, 2014, 9:00 a.m. to 6:00 p.m.; April 10, 2014, 9:00 a.m. to 12:00 noon.

ADDRESSES: Hilton Rockville, 1750 Rockville Pike, Rockville, MD 20852.

FOR FURTHER INFORMATION CONTACT: Edmund J. Synakowski, Designated Federal Officer, Office of Fusion Energy Sciences; U.S. Department of Energy; 1000 Independence Avenue SW.; Washington, DC 20585-1290; Telephone: 301-903-4941.

SUPPLEMENTARY INFORMATION:

Purpose of the Meeting: To present the FY 2015 President's budget request for the Fusion Energy Sciences program, and to discuss the charge given to the Committee in the letter from the Acting Director of the Office of Science, dated February 19, 2014, to the FESAC Chair, on the assessment of workforce development needs in Office of Science research disciplines, as well as other possible charges.

Tentative Agenda Items:

• DOE/SC Perspective and FY 2015 President's Budget Request for SC

• FES Perspective and FY 2015 President's Budget Request for FES

• Charge on Workforce Development Needs in SC Research Disciplines

• Public Comments

• Adjourn

Note: Remote attendance of the FESAC meeting will be possible via ReadyTalk (www.readytalk.com). Please check the FESAC Web site (http://science.energy.gov/fes/fesac/meetings/) for instructions on how to access the meeting remotely.

Public Participation: The meeting is open to the public. If you would like to file a written statement with the Committee, you may do so either before or after the meeting. If you would like to make an oral statement regarding any of the items on the agenda, you should contact Dr. Ed Synakowski at 301-903-8584 (fax) or Ed.synakowski@science.doe.gov (email). Reasonable provisions will be made to include the scheduled oral statements during the Public Comments time on the agenda. The Chairperson of the Committee will conduct the meeting to facilitate the orderly conduct of business. Public comment will follow the 10-minute rule.

Minutes: The minutes of the meeting will be available for public review and copying within 30 days on the Fusion Energy Sciences Advisory Committee Web site at: http://science.energy.gov/fes/fesac/

Issued at Washington, DC, on March 12, 2014.
LaTanya R. Butler,
Deputy Committee Management Officer.

[FR Doc. 2014-05976 Filed 3-17-14; 8:45 am]

BILLING CODE 6450-01-P